DEPARTMENT OF EDUCATION

[CFDA No.: 84.224B]

Office of Special Education and Rehabilitative Services; National Institute on Disability and Rehabilitation Research—Assistive Technology Act (AT Act) Technical Assistance Program; Notice Inviting Applications for Fiscal Year (FY) 2002

Note to Applicants: This notice is a complete application package. Together with the statute authorizing the program and applicable regulations governing the program, including the Education Department General Administrative Regulations (EDGAR), this notice contains all of the information, application forms, and instructions you need to apply for a grant under this competition.

Purpose of the Program: The purpose of the Assistive Technology Act of 1998 (AT Act) Technical Assistance Program is to award grants to entities to address issues raised by interested parties; collect data in order to provide information about assistive technology (AT) devices and services that can be used for determining policy; and provide information on increased access to AT devices, AT services and other disability-related resources. For FY 2002, the competition for new awards focuses on projects designed to meet the priorities we described in the priorities section of this notice.

Eligible Applicants: Parties eligible to apply for technical assistance grants must have documented experience with and expertise in AT service delivery or systems, interagency coordination, and capacity building and advocacy activities.

Parties eligible to apply for a grant under Priority 1 and Priority 2 are States, public or private agencies including for-profit organizations, institutions of higher education, and Indian tribes and tribal organizations.

Parties eligible to apply for a grant under Priority 3 are institutions of higher education that emphasize research and engineering, have a multidisciplinary research center, and have demonstrated expertise in (1) working with AT and intelligent agent interactive information dissemination systems; (2) managing libraries of AT and disability-related resources; (3) delivering education, information, and referral services to individuals with disabilities, including technology-based curriculum development services for adults with low-level reading skills; (4) developing cooperative partnerships with the private sector, particularly with private sector computer software, hardware, and Internet services entities; and (5) developing and designing advanced Internet sites.

Application Notice for Fiscal Year 2002
Assistive Technology Act (AT Act) Technical Assistance Program, CFDA No. 84.224B
Funding priority | Deadline for transmittal of applications | Estimated available funds | Maximum award amount (per year)* | Estimated number of awards | Project period (months)
84.224B-1 Technical Assistance to AT State Grant Program | September 11, 2002 | $525,000 | Year 1—$525,000; Year 2—$525,000; Year 3—$525,000. | 1 | 36
84.224B—2 Technical Assistance to AT P&A Program | September 11, 2002 | 160,000 | Year 1—$160,000; Year 2—$160,000; Year 3—$160,000. | 1 | 36
84.224B—3 Establishment and Maintenance of a National Assistive Technology Internet Site | September 11, 2002 | 250,000 | Year 1—$250,000 Year 2—$250,000; Year 3—$250,000. | 1 | 36
Note 1: We will reject without consideration any application that proposes a budget exceeding the stated maximum award amount in any year (See 34 CFR 75.104(b)).
Note 2: The Department is not bound by any estimates in this notice.

Applicable Regulations and Statute: (a) The Education Department General Administrative Regulations (EDGAR) in 34 CFR parts 74, 75, 77, 80, 81, 82, 85, and 86, and (b) 29 U.S.C. 3014.

Priorities

Absolute Priority 1—Technical Assistance to AT State Grant Program Grantees and Other Public Entities

Under 34 CFR 75.105(c)(3) and section 104(c)(2) of the AT Act, the project that will provide technical assistance to AT State Grant Program grantees and other public entities must:

(1) Address State-specific information requests concerning AT from grantees and other public entities, including:

(a) Requests for state-of-the-art, or model, Federal, State, and local laws, regulations, policies, practices, procedures, and organizational structures, that facilitate, and overcome barriers to, funding for, and access to, AT devices and AT services;

(b) Requests for examples of policies, practices, procedures, regulations, administrative hearing decisions, or legal actions, that have enhanced or may enhance access to and funding for AT devices and AT services for individuals with disabilities;

(c) Requests for information on effective approaches to Federal-State coordination of programs for individuals with disabilities, related to improving funding for or access to AT devices and AT services for individuals with disabilities of all ages;

(d) Requests for information on effective approaches to the development of consumer-controlled systems that increase access to, funding for, and awareness of, AT devices and AT services;

(e) Other requests for technical assistance from grantees and other public entities; and

(f) Other assignments specified by the Secretary including assisting entities described in section 103(b) of the AT Act to develop corrective action plans;

(2) Assist targeted individuals (as defined in section 3(a)(14) of the AT Act) by disseminating information about:

(a) Federal, State, and local laws, regulations, policies, practices, procedures, and organizational structures, that facilitate, and overcome barriers to, funding for, and access to, AT devices and AT services, to promote fuller independence, productivity, and inclusion in society for individuals with disabilities of all ages; and

(b) Technical assistance activities listed above.

For FY 2002, this priority is an absolute priority. Under 34 CFR 75.105(c)(3), we consider only applications that meet the priority.

Invitational Priority

Within the absolute priority for this competition, we are particularly interested in applications that meet the following invitational priority.

Production of a yearly report of the technical assistance activities described above that will include information on:

(1) The demonstrated successes of the AT State Grant Program activities in improving interagency coordination relating to AT, streamlining access to and funding for AT, and producing beneficial outcomes for users of AT;

(2) The demonstration activities carried out through the AT State Grant Program to:

(a) Promote access to AT funding in public programs that were in existence on the date of the initiation of the AT State Grant Program; and

(b) Establish additional options for obtaining AT funding;

(3) The education and training activities carried out through the AT State Grant Program to educate and train targeted individuals about AT, including increasing awareness of funding through public programs for AT;

(4) The research activities carried out through the AT State Grant Program to improve understanding of the costs and benefits of access to AT for individuals with disabilities who represent a variety of ages and types of disabilities;

(5) The program outreach activities to rural and inner-city areas that are carried out through the AT State Grant Program;

(6) The activities carried out through the AT State Grant Program that are targeted to reach underrepresented populations and rural populations;

(7) The consumer involvement activities carried out through the AT State Grant Program; and

(8) Information on the availability of AT devices and AT services for individuals with disabilities.

Under 34 CFR 75.105(c)(1) an application that meets an invitational does not receive competitive or absolute preference over other applications.

Absolute Priority 2—Technical Assistance to AT Protection and Advocacy (P&A) Program Grantees and Other Public Entities

Under 34 CFR 75.105(c)(3) and section 104(c)(2) of the AT Act, the project that will provide Technical Assistance to AT P&A Program Grantees and other public entities must:

(1) Address State-specific information requests concerning AT from grantees and other public entities, including:

(a) Requests for state-of-the-art, or model, Federal, State, and local laws, regulations, policies, practices, procedures, and organizational structures, that facilitate, and overcome barriers to, funding for, and access to, AT devices and AT services;

(b) Requests for examples of policies, practices, procedures, regulations, administrative hearing decisions, or legal actions, that have enhanced or may enhance access to and funding for AT devices and AT services for individuals with disabilities;

(c) Other requests for technical assistance from grantees and other public entities;

(2) Assist targeted individuals (as defined in section (3)(a)(14) of the AT Act) by disseminating information about:

(a) Federal, State, and local laws, regulations, policies, practices, procedures, and organizational structures, that facilitate, and overcome barriers to, funding for, and access to, AT devices and AT services, to promote fuller independence, productivity, and inclusion in society for individuals with disabilities of all ages; and

(b) Technical assistance activities listed above.

Absolute Priority 3—Establishment and Maintenance of a National Assistive Technology Internet Site

Under 34 CFR 75.105(c)(3) and section 104(c)(1) of the AT Act, the National Assistive Technology Internet Site, established and maintained under this program, must contain the following features:

(1) Availability of information at any time—The site shall be designed so that any member of the public may obtain information posted on the site at any time.

(2) Innovative Automated Intelligent Agent—The site shall be constructed with an innovative automated intelligent agent that is a diagnostic tool for assisting users in problem definition and the selection of appropriate AT devices and AT resources.

(3) Resources.

(a) Library on Assistive Technology—The site shall include access to a comprehensive working library on AT for all environments, including home, workplace, transportation, and other environments.

(b) Resources for a Number of Disabilities—The site shall include resources relating to the largest possible number of disabilities, including resources relating to low-level reading skills.

(4) Links to Private Sector Resources and Information—To the extent feasible, the site shall be linked to relevant private sector resources and information, under agreements developed between the institution of higher education and cooperating private sector entities.

(5) Minimum Library Components—At a minimum, the Internet site shall maintain updated information on:

(a) How to plan, develop, implement, and evaluate activities to further extend comprehensive statewide programs of technology-related assistance, including the development and replication of effective approaches to:

(i) Providing information and referral services;

(ii) promoting interagency coordination of training and service delivery among public and private entities;

(iii) conducting outreach to underrepresented populations and rural populations;

(iv) mounting successful public awareness activities;

(v) improving capacity building in service delivery;

(vi) training personnel from a variety of disciplines; and

(vii) improving evaluation strategies, research and data collection;

(b) Effective approaches to the development of consumer-controlled systems that increase access to, funding for, and awareness of, AT devices and AT services;

(c) Successful approaches to increasing the availability of public and private funding for and access to the provision of AT devices and AT services by appropriate State agencies; and

(d) Demonstration sites where individuals may try out AT.

Selection Criteria: In evaluating applications for grants under the AT Act, the Secretary uses selection criteria chosen from 34 CFR 75.210. The maximum score for all criteria to be used for this competition is 100 points.

(a) Significance (8 points total)

(1) The Secretary considers the significance of the proposed project.

(2) In determining the significance of the proposed project, the Secretary considers the extent to which the results of the proposed project are to be disseminated in ways that will enable others to use the information or strategies.

(b) Quality of the project design (35 points total)

(1) The Secretary considers the quality of the design of the proposed project.

(2) In determining the quality of the design of the proposed project, the Secretary considers the following factors:

(i) The extent to which the goals, objectives, and outcomes to be achieved by the proposed project are clearly specified and measurable (12 points).

(ii) The extent to which the design of the proposed project is appropriate to, and will successfully address, the needs of the target population or other identified needs (10 points).

(iii) The extent to which the proposed project represents an exceptional approach to the priority or priorities established for the competition (8 points).

(iv) The extent to which the proposed project will be coordinated with similar or related efforts, and with other appropriate community, State, and Federal resources (5 points).

(c) Quality of project services (16 points total)

(1) The Secretary considers the quality of the services to be provided by the proposed project.

(2) In determining the quality of the services to be provided by the proposed project, the Secretary considers the quality and sufficiency of strategies for ensuring equal access and treatment for eligible proposed project participants who are members of groups that have traditionally been underrepresented based on race, color, national origin, gender, age, or disability (5 points).

(3) In addition, the Secretary considers the following factors:

(i) The extent to which the services to be provided by the proposed project are appropriate to the needs of the intended recipients or beneficiaries of those services (5 points).

(ii) The extent to which the technical assistance services to be provided by the proposed project involve the use of efficient strategies, including the use of technology, as appropriate, and the leveraging of non-project resources (6 points).

(d) Quality of project personnel (12 points total)

(1) The Secretary considers the quality of the personnel who will carry out the project.

(2) In determining the quality of project personnel, the Secretary considers the extent to which the applicant encourages applications for employment from persons who are members of groups that have traditionally been underrepresented based on race, color, national origin, gender, age, or disability (3 points).

(3) In addition, the Secretary considers the following factors:

(i) The qualifications, including relevant training and experience, of the project director or principal investigator (5 points).

(ii) The qualifications, including relevant training and experience, of key project personnel (4 points).

(e) Adequacy of resources (6 points total)

(1) The Secretary considers the adequacy of resources for the proposed project.

(2) In determining the adequacy of resources for the proposed project, the Secretary considers the following factors:

(i) The adequacy of support, including facilities, equipment, supplies, and other resources, from the applicant organization or the lead applicant organization (3 points).

(ii) The extent to which the costs are reasonable in relation to the objectives, design, and potential significance of the proposed project (3 points).

(f) Quality of the management plan (11 points total)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks (6 points).

(ii) The extent to which the time commitments of the project director and principal investigator and other key project personnel are appropriate and adequate to meet the objectives of the proposed project (5 points).

(g) Quality of the project evaluation (12 points total)

(1) The Secretary considers the quality of the evaluation to be conducted OF the proposed project.

(2) In determining the quality of the evaluation, the Secretary considers the following factors:

(i) The extent to which the methods of evaluation are thorough, feasible, and appropriate to the goals, objectives, and outcomes of the proposed project (6 points).

(ii) The extent to which the methods of evaluation include the use of objective performance measures that are clearly related to the intended outcomes of the project and will produce quantitative and qualitative data to the extent possible (6 points).

Application Instructions and Forms

The Appendix to this notice contains forms and instructions, a statement regarding estimated public reporting burden, and various assurances and certifications. Please organize the parts and additional materials in the following order:

• PART I: Application for Federal Assistance (ED 424 (Rev. 11/30/2004)) and instructions.

• PART II: Budget Form—Non-Construction Programs (ED 524) and instructions and definitions.

• PART III: Application Narrative.

• PART IV: Additional Materials.

• Estimated Public Reporting Burden.

• Assurances—Non-Construction Programs (Standard Form 424B).

• Certification Regarding Lobbying, Debarment, Suspension, and Other Responsibility Matters: and Drug-Free Work-Place Requirements (ED Form 80-0013).

• Certification Regarding Debarment, Suspension, Ineligibility and Voluntary Exclusion: Lower Tier Covered Transactions (ED Form 80-0014) and instructions.

(Note: ED Form GCS-014 is intended for the use of primary participants and should not be transmitted to the Department.)

• Disclosure of Lobbying Activities (Standard Form LLL (if applicable) and instructions; and Disclosure Lobbying Activities Continuation Sheet (Standard Form LLL-A).

You may submit information on a photocopy of the application and budget forms, the assurances, and the certifications. However, the application form, the assurances, and the certifications must each have an original signature. No grant may be awarded unless a completed application form has been received.

Application Procedures

The Secretary will reject without consideration or evaluation any application that proposes a project funding level that exceeds the stated maximum award amount per year (See 34 CFR 75.104(b)).

The Secretary strongly recommends the following:

(1) a one-page abstract;

(2) an Application Narrative (i.e., part III that addresses the selection criteria that will be used by reviewers in evaluating individual proposals) of no more than 75 numbered, double-spaced (no more than 3 lines per vertical inch) 8.5″ x 11″ pages (on one side only) with one inch margins (top, bottom, and sides). The application narrative page limit recommendation does not apply to: Part I—the electronically scannable form; Part II—the budget section (including the narrative budget justification); and Part IV—the assurances and certifications; and

(3) a font no smaller than a 12-point font and an average character density no greater than 14 characters per inch.

Instructions for Transmitting Applications

If you want to apply for a grant and be considered for funding, you must meet the following deadline requirements:

(a) If You Send Your Application by Mail

You must mail the original and two copies of the application on or before the deadline date. To help expedite our review of your application, we would appreciate your voluntarily including an additional seven copies of your application. Mail your application to: U.S. Department of Education, Application Control Center, Attention: (CFDA # 84.224B and title), 7th & D Streets, SW., Room 3671, Regional Office Building 3, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(b) If You Deliver Your Application by Hand

You or your courier must hand deliver the original and two copies of the application by 4:30 p.m. (Washington, DC time) on or before the deadline date. To help expedite our review of your application, we would appreciate your voluntarily including an additional seven copies of your application. Deliver your application to: U.S. Department of Education, Application Control Center, Attention: (CFDA # 84.224B and title), 7th & D Streets, SW., Room 3671, Regional Office Building 3, Washington, DC 20202-4725.

The Application Control Center accepts application deliveries daily between 8 a.m. and 4:30 p.m. (Washington, DC time), except Saturdays, Sundays, and Federal holidays. The Center accepts application deliveries through the D Street entrance only. A person delivering an application must show identification to enter the building.

Notes

(1) The U.S. Postal Service does not uniformly provide a dated postmark. Before relying on this method, you should check with your local post office.

(2) If you send your application by mail or if you or your courier deliver it by hand, the Application Control Center will mail a Grant Application Receipt Acknowledgment to you. If you do not receive the notification of application receipt within 15 days from the date of mailing the application, you should call the U.S. Department of Education Application Control Center at (202) 708-9493.

(3) If your application is late, we will notify you that we will not consider the application.

(4) You must indicate on the envelope and—if not provided by the Department—in Item 4 of the Application for Federal Education Assistance (ED 424 (exp. 11/30/2004)) the CFDA number—and suffix letter, if any, and title—of the competition under which you are submitting your application.

FOR FURTHER INFORMATION CONTACT: Donna Nangle, U.S. Department of Education, 400 Maryland Avenue, SW., room 3412, Switzer Building, Washington, DC 20202-2645. Telephone: (202) 205-5880 or via Internet: Donna.Nangle@ed.gov.

If you use a telecommunications device for the deaf (TDD) you may call the TDD number at (202) 205-4475.

Individuals with disabilities may obtain this document in an alternative format (e.g., Braille, large print, audiotape, or computer diskette) on request to the contact person listed under FOR FURTHER INFORMATION CONTACT.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 3014.

Dated: August 6, 2002.
Loretta Petty Chittum,
Acting Assistant Secretary for Special Education and Rehabilitative Services.

Appendix—Instructions for Estimated Public Reporting Burden

According to the Paperwork Reduction Act of 1995, you are not required to respond to a collection of information unless it displays a valid OMB control number. The valid OMB control number for this collection of information is 1820-0027. Expiration date: 2/28/2003. We estimate the time required to complete this collection of information to average 30 hours per response, including the time to review instructions, search existing data sources, gather the data needed, and complete and review the collection of information. If you have any comments concerning the accuracy of the time estimate or suggestions for improving this form, please write to: U.S. Department of Education, Washington, DC 20202-4651. If you have comments or concerns regarding the status of your submission of this form, write directly to: Donna Nangle, U.S. Department of Education, 400 Maryland Avenue, SW., room 3412, Switzer Building, Washington, DC 20202-2645.

Frequent Questions

1. Can I get an Extension of the Due Date?

No. On rare occasions the Department of Education may extend a closing date for all applicants. If that occurs, a notice of the revised due date is published in the Federal Register. However, there are no extensions or exceptions to the due date made for individual applicants.

2. What Should be Included in the Application?

The application should include a project narrative, vitae of key personnel, and a budget, as well as the Assurances forms included in this package. Vitae of staff or consultants should include the individual's title and role in the proposed project, and other information that is specifically pertinent to this proposed project. The budgets for both the first year and all subsequent project years should be included.

If collaboration with another organization is involved in the proposed activity, the application should include assurances of participation by the other parties, including written agreements or assurances of cooperation. It is not useful to include general letters of support or endorsement in the application.

If the applicant proposes to use unique tests or other measurement instruments that are not widely known in the field, it would be helpful to include the instrument in the application.

Many applications contain voluminous appendices that are not helpful and in many cases cannot even be mailed to the reviewers. It is generally not helpful to include such things as brochures, general capability statements of collaborating organizations, maps, copies of publications, or descriptions of other projects completed by the applicant.

3. What Format Should be Used for the Application?

NIDRR generally advises applicants that they may organize the application to follow the selection criteria that will be used. The specific review criteria vary according to the specific program, and are contained in this Consolidated Application Package.

4. May I Submit Applications to More Than One NIDRR Program Competition or More Than One Application to a Program?

Yes, you may submit applications to any program for which they are responsive to the program requirements. You may submit the same application to as many competitions as you believe appropriate. You may also submit more than one application in any given competition.

5. What is the Allowable Indirect Cost Rate?

The limits on indirect costs vary according to the program and the type of application. An applicant for an RRTC is limited to an indirect rate of 15%. An applicant for a Disability and Rehabilitation Research Project should limit indirect charges to the organization's approved indirect cost rate. If the organization does not have an approved indirect cost rate, the application should include an estimated actual rate.

6. Can Profitmaking Businesses Apply for Grants?

Yes. However, for-profit organizations will not be able to collect a fee or profit on the grant, and in some programs will be required to share in the costs of the project.

7. Can Individuals Apply for Grants?

No. Only organizations are eligible to apply for grants under NIDRR programs. However, individuals are the only entities eligible to apply for fellowships.

8. Can NIDRR Staff Advise me Whether my Project is of Interest to NIDRR or Likely to be Funded?

No. NIDRR staff can advise you of the requirements of the program in which you propose to submit your application. However, staff cannot advise you of whether your subject area or proposed approach is likely to receive approval.

9. How do I Assure That my Application will be Referred to the Most Appropriate Panel for Review?

Applicants should be sure that their applications are referred to the correct competition by clearly including the competition title and CFDA number, including alphabetical code, on the Standard Form 424, and including a project title that describes the project.

10. How Soon After Submitting my Application can I Find out if it will be Funded?

The time from closing date to grant award date varies from program to program. Generally speaking, NIDRR endeavors to have awards made within five to six months of the closing date. Unsuccessful applicants generally will be notified within that time frame as well. For the purpose of estimating a project start date, the applicant should estimate approximately six months from the closing date, but no later than the following September 30.

11. Can I Call NIDRR to Find out if my Application is Being Funded?

No. When NIDRR is able to release information on the status of grant applications, it will notify applicants by letter. The results of the peer review cannot be released except through this formal notification.

12. If my Application is Successful, can I Assume I will get the Requested Budget Amount in Subsequent Years?

No. Funding in subsequent years is subject to availability of funds and project performance.

13. Will all Approved Applications be Funded?

No. It often happens that the peer review panels approve for funding more applications than NIDRR can fund within available resources. Applicants who are approved but not funded are encouraged to consider submitting similar applications in future competitions.

BILLING CODE 4000-01-P

[FR Doc. 02-20364 Filed 8-9-02; 8:45 am]

BILLING CODE 4000-01-C